DEPARTMENT OF VETERANS AFFAIRS

[OMB Control No. 2900-0028]

Proposed Information Collection Activity: Proposed Collection; Comment Request

AGENCY: Office of Information and Technology, Department of Veterans Affairs

ACTION: Notice.

SUMMARY: The Office of Information and Technology (IT), Department of Veterans Affairs (VA), is announcing an opportunity for public comment on the proposed collection of certain information used by the agency. Under the Paperwork Reduction Act (PRA) of 1995, Federal agencies are required to publish notice in the Federal Register concerning each proposed collection of information, including each proposed extension of a currently approved collection, and allow 60 days for public comment in response to the notice. This notice solicits comments for information needed from service organizations requesting to be placed on VA's mailing lists for specific publications; to request additional information from the correspondent to identify a veteran; to request for and consent to release of information from claimant's records to a third party; and to determine an applicant's eligibility to receive a list of names and addresses of veterans and their dependents.

DATES: Written comments and recommendations on the proposed collection of information should be received on or before August 12, 2002.

ADDRESSES: Submit written comments on the collection of information to Dolly Jackson (045A4), Department of Veterans Affairs, 810 Vermont Avenue, N.W., Washington, DC 20420 or e-mail: dolly.Jackson@mail.va.gov. Please refer to “OMB Control No. 2900-0028” in any correspondence.

FOR FURTHER INFORMATION CONTACT: Dolly Jackson at (202) 273-8022 or FAX (202) 273-5981.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, IT invites comments on: (1) Whether the proposed collection of information is necessary for the proper performance of IT's functions, including whether the information will have practical utility; (2) the accuracy of IT's estimate of the burden of the proposed collection of information; (3) ways to enhance the quality, utility, and clarity of the information to be collected; and (4) ways to minimize the burden of the collection of information on respondents, including through the use of automated collection techniques or the use of other forms of information technology.

Titles

a. Application of Service Representative for Placement on Mailing List, VA Form 3215.

b. Request to Correspondent for Identifying Information, VA Form Letter 70-2.

c. Request for and Consent to Release of Information from Claimant's Records, VA Form 3288.

d. 38 CFR(A) 1.519 Lists of Names and Addresses.

OMB Control Number: 2900-0028.

Type of Review: Extension of a currently approved collection.

Abstract

a. VA operates an outreach services program to ensure veterans and beneficiaries have information about benefits and services to which they may be entitled. To support the program, VA distributes copies of publications to veterans service organizations' representatives to use in rendering services and representation of veterans, their spouses and dependents. The information collected on VA Form 3215 is used to process a request from a service organization to be placed on the mailing list for specific VA publications.

b. VA Form Letter 70-2 is used to obtain additional information from a correspondent when the incoming correspondence does not provide sufficient information to identify a veteran. VA personnel use the information to identify the veteran, determine the location of a specific file, and to accomplish the action requested by the correspondent such as; process a benefit claim or file material in the individual's claims folder. Completion of the form is voluntary and failure to furnish the requested information has no adverse effect on either the veteran or the correspondent.

c. VA Form 3288 is completed by veterans or beneficiaries to provide VA with a written consent to release records or information to third parties such as insurance companies, physicians and other individuals.

d. Title 38, U.S.C., 5701(f)(1) authorizes VA to disclose mailing lists of veterans and their dependents to nonprofit organizations, but only for certain specific and narrow purposes. Criminal penalties are provided for improper use of the list by the organization in violation of subsection (f) limitations. The information collection in this regulation ensures that any disclosure of a list under this subsection is authorized by law. VA must ascertain that the applicant is a nonprofit organization and intends to use the list for a proper purpose; if not, Title 38, U.S.C., 5701(a) prohibits disclosure.

Affected Public: Individuals or households, not for profit institutions, and State, local or tribal government.

Estimated Annual Burden: 22,700 hours.

a. Application of Service Representative for Placement on Mailing List, VA Form 3215—25 hours.

b. Request to Correspondent for Identifying Information, VA Form Letter 70-2—3,750 hours.

c. Request for and Consent to Release of Information From Claimant's Records, VA Form 3288—18,875 hours.

d. 38 CFR(A) 1.519 Lists of Names and Addresses—50 hours.

Estimated Average Burden Per Respondent

a. Application of Service Representative for Placement on Mailing List, VA Form 3215—10 minutes.

b. Request to Correspondent for Identifying Information, VA Form Letter 70-2—5 minutes.

c. Request for and Consent to Release of Information From Claimant's Records, VA Form 3288—7.5 minutes.

d. 38 CFR(A) 1.519 Lists of Names and Addresses—60 minutes.

Frequency of Response: On occasion.

Estimated Number of Respondents

a. Application of Service Representative for Placement on Mailing List, VA Form 3215—150.

b. Request to Correspondent for Identifying Information, VA Form Letter 70-2—45,000.

c. Request for and Consent to Release of Information From Claimant's Records, VA Form 3288—151,000.

d. 38 CFR(A) 1.519 Lists of Names and Addresses—50.

Dated: June 4, 2002.
By direction of the Secretary:
Barbara H. Epps,
Management Analyst, Information Management Service.

[FR Doc. 02-14861 Filed 6-12-02; 8:45 am]

BILLING CODE 8320-01-P